Title 3—

The President

Proclamation 7829 of October 11, 2004

Columbus Day, 2004

By the President of the United States of America

A Proclamation

The journeys of Christopher Columbus are among the world's greatest stories of daring and discovery. His courage, optimism, and adventurous spirit altered the course of history. On Columbus Day, we celebrate this remarkable explorer and his contributions to the “New World.”

In August 1492, Columbus left Spain and sailed into the unknown with the simplest of navigational equipment. The risks were great and the outcome uncertain. Yet, Columbus was committed to the cause of discovery, finding a more efficient trade route to the East and advancing European civilization.

Today, Columbus' voyages continue to stir our imagination and encourage us to explore new frontiers. His spirit of determination and discovery is a characteristic shared by the American people and is reflected throughout our history, from the Lewis and Clark Expedition to the Moon landing and our many scientific and technological advances.

Columbus Day is also a celebration of the many contributions that Italian Americans have made to our Nation. Every aspect of our culture, whether it be art or music, law or politics, reflects the influence of Italian Americans. On this day we also remain thankful for the strong ties between the United States and Italy and pay tribute to the courageous and selfless Italian forces who are helping to advance freedom alongside American and coalition troops in Iraq and Afghanistan.

In commemoration of Columbus' journey, the Congress, by joint resolution of April 30, 1934, and modified in 1968 (36 U.S.C. 107), as amended, has requested that the President proclaim the second Monday of October of each year as “Columbus Day.”

NOW, THEREFORE, I, GEORGE W. BUSH, President of the United States of America, do hereby proclaim October 11, 2004, as Columbus Day. I call upon the people of the United States to observe this day with appropriate ceremonies and activities. I also direct that the flag of the United States be displayed on all public buildings on the appointed day in honor of Christopher Columbus.

IN WITNESS WHEREOF, I have hereunto set my hand this eleventh day of October, in the year of our Lord two thousand four, and of the Independence of the United States of America the two hundred and twenty-ninth.

B

[FR Doc. 04-23206

Filed 10-13-04; 8:54 am]

Billing code 3195-01-P